ENVIRONMENTAL PROTECTION AGENCY

40 CFR Part 52

[R05-OAR-2004-IN-0003; FRL-7806-5]

Approval and Promulgation of Implementation Plans Indiana: Revised Mobile Source Inventories and Motor Vehicle Emissions Budgets for 2005 and 2007 Using MOBILE6

AGENCY: Environmental Protection Agency (EPA).

ACTION: Direct final rule.

SUMMARY: EPA is approving Indiana's August 6, 2004, submittal of revised mobile emission inventories and 2005 and 2007 motor vehicle emissions budgets (MVEBs) which have been developed using MOBILE6, an updated model for calculating mobile emissions of ozone precursors. These inventories and associated motor vehicle emissions budgets are part of the 1-hour ozone attainment plan approved for the Northwest Indiana area. The Northwest Indiana area consists of Lake and Porter Counties in Indiana. The State's submittal meets a commitment by the State of Indiana to revise and resubmit the MVEBs using MOBILE6 methods within two years following EPA's release of MOBILE6, provided that transportation conformity is not determined without adequate MOBILE6-based MVEBs during the second year. The lack of approved motor vehicle emissions budgets has resulted in an administrative freeze on transportation conformity in this area. The approval of these budgets will allow transportation conformity determinations to be made in Northwest Indiana.

DATES: This “direct final” rule is effective on October 12, 2004, unless EPA receives adverse written comments by September 27, 2004. If adverse comment is received, EPA will publish a timely withdrawal of the rule in the Federal Register and inform the public that the rule will not take effect.

ADDRESSES: Submit comments, identified by Docket ID No. R05-OAR-2004-IN-0003 by one of the following methods: Federal eRulemaking Portal: http://www.regulations.gov. Follow the on-line instructions for submitting comments.

E-mail: bortzer.jay@epa.gov.

Fax: (312) 886-5824.

Mail: You may send written comments to: J. Elmer Bortzer, Chief, Air Programs Branch, (AR-18J), Environmental Protection Agency, 77 West Jackson Boulevard, Chicago, Illinois 60604.

Hand delivery: Deliver your comments to: J. Elmer Bortzer, Chief, Air Programs Branch (AR-18J), U.S. Environmental Protection Agency, Region 5, 77 West Jackson Boulevard, 18th floor, Chicago, Illinois 60604.

Such deliveries are only accepted during the Regional Office's normal hours of operation. The Regional Office's official hours of business are Monday through Friday, 8:30 a.m. to 4:30 p.m. excluding Federal holidays.

Instructions: Direct your comments to Docket ID No. R05-OAR-2004-IN-0003. EPA's policy is that all comments received will be included in the public docket without change, including any personal information provided, unless the comment includes information claimed to be Confidential Business Information (CBI) or other information whose disclosure is restricted by statute. Do not submit information that you consider to be CBI or otherwise protected through regulations.gov, or e-mail. The federal regulations.gov Web site is an “anonymous access” system, which means EPA will not know your identity or contact information unless you provide it in the body of your comment. If you send an e-mail comment directly to EPA without going through regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of the related proposed rule which is published in the Proposed Rules section of this Federal Register.

Docket: All documents in the docket are listed in the EDOCKET index at http://www.epa.gov/edocket. Although listed in the index, some information is not publicly available, i.e., Confidential Business Information (CBI) or other information whose disclosure is restricted by statute. Publicly available docket materials are available either electronically in EDOCKET or in hard copy at Environmental Protection Agency, Region 5, Air and Radiation Division, 77 West Jackson Boulevard, Chicago, Illinois 60604. (We recommend that you telephone Patricia Morris, Environmental Scientist, at (312) 353-8656 before visiting the Region 5 office.) This facility is open from 8:30 a.m. to 4:30 p.m., Monday through Friday, excluding legal holidays.

FOR FURTHER INFORMATION CONTACT: Patricia Morris, Environmental Scientist, Criteria Pollutant Section, Air Programs Branch (AR-18J), EPA Region 5, 77 West Jackson Boulevard, Chicago, Illinois 60604, (312) 353-8656. morris.patricia@epa.gov.

SUPPLEMENTARY INFORMATION:

I. General Information

A. Does This Action Apply To Me?

B. How Can I Get Copies of This Document and Other Related Information?

C. How and To Whom Do I Submit Comments?

II. What Is the Background for This Action?

III. What Action Is EPA Taking Today?

IV. What Changes Were Made to the Northwest Indiana 1-Hour Ozone MVEBs?

V. What is Transportation Conformity?

VI. What is a MVEB?

VII. How Does This Action Change Implementation of Transportation Conformity for the Northwest Indiana Area?

VIII. What Is the Action?

IX. Did Indiana Hold A Public Hearing?

X. Statutory and Executive Order Review

I. General Information

A. Does This Action Apply To Me?

This action is rulemaking on a non-regulatory planning document intended to ensure the continued progress toward good air quality in the Northwest Indiana (Lake and Porter Counties) Area. This action will allow transportation planning to proceed in Northwest Indiana.

B. How Can I Get Copies of This Document and Other Related Information?

1. The Regional Office has established an electronic public rulemaking file available for inspection on EDOCKET and a hard copy file which is available for inspection at the Regional Office. EPA has established an official public rulemaking file for this action under Docket ID No. R05-OAR-2004-IN-0003. The official public file consists of the documents specifically referenced in this action, any public comments received, and other information related to this action. Although a part of the official docket, the public rulemaking file does not include Confidential Business Information (CBI) or other information whose disclosure is restricted by statute. The official public rulemaking file is the collection of materials that is available for public viewing at the Air Programs Branch, Air and Radiation Division, EPA Region 5, 77 West Jackson Boulevard, Chicago, Illinois 60604. EPA requests that if at all possible, you contact the person listed in the For Further Information Contact section to schedule your inspection. The Regional Office's official hours of business are Monday through Friday, 8:30 a.m. to 4:30 p.m. excluding Federal holidays.

2. Electronic Access. You may access this Federal Register document electronically through the regulations.gov Web site located at http://www.regulations.gov where you can find, review, and submit comments on Federal rules that have been published in the Federal Register, the Government's legal newspaper, and are open for comment.

For public commenters, it is important to note that EPA's policy is that public comments, whether submitted electronically or in paper, will be made available for public viewing at the EPA Regional Office, as EPA receives them and without change, unless the comment contains copyrighted material, CBI, or other information whose disclosure is restricted by statute. When EPA identifies a comment containing copyrighted material, EPA will provide a reference to that material in the version of the comment that is placed in the official public rulemaking file. The entire printed comment, including the copyrighted material, will be available at the Regional Office for public inspection.

C. How and To Whom Do I Submit Comments?

You may submit comments electronically, by mail, or through hand delivery/courier. To ensure proper receipt by EPA, identify the appropriate rulemaking identification number by including the text “Public comment on proposed rulemaking Region 5 Air Docket “R05-OAR-2004-IN-0003” in the subject line on the first page of your comment. Please ensure that your comments are submitted within the specified comment period. Comments received after the close of the comment period will be marked “late.” EPA is not required to consider these late comments.

For detailed instructions on submitting public comments and on what to consider as you prepare your comments see the ADDRESSES section and the section I General Information of the SUPPLEMENTARY INFORMATION section of the related proposed rule which is published in the Proposed Rules section of this Federal Register.

II. What Is the Background for This Action?

In November of 1999, EPA issued two memoranda ¹ to articulate its policy regarding states that incorporated MOBILE5-based interim Tier 2 standard ² benefits into their State Implementation Plans (SIPs) and MVEBs. Although these memoranda primarily targeted certain serious and severe ozone nonattainment areas, EPA has implemented this policy in all other areas that have made use of federal Tier 2 benefits in air quality plans from EPA's April 2000 MOBILE5 guidance, “MOBILE5 Information Sheet #8: Tier 2 Benefits Using MOBILE5.” All states whose attainment demonstrations or maintenance plans include interim MOBILE5-based estimates of the Tier 2 standards were required to make a commitment to revise and resubmit their MVEBs within either one or two years of the final release of MOBILE6 in order to gain SIP approval.

¹ Memoranda, “Guidance on Motor Vehicle Emissions Budgets in 1-Hour Ozone Attainment Demonstrations,” issued November 3, 1999, and “1-Hour Ozone Attainment Demonstrations and Tier2/Sulfur Rulemaking,” issued November 8, 1999. Copies of these memoranda are on EPA's Web site at http://www.epa.gov/otaq/transp/traqconf.htm.

² The final rule on Tier 2 Motor Vehicle Emissions Standards and Gasoline Sulfur Control Requirements (“Tier 2 standards”) for passenger cars, light trucks, and larger passenger vehicles was published on February 10, 2000 (65 FR 6698).

EPA officially released the MOBILE6 motor vehicle emissions factor model on January 29, 2002 (67 FR 4254). Thus, the effective date of that Federal Register action constituted the start of the two-year time period in which Indiana was required to revise the maintenance plan SIPs using the MOBILE6 model.

MOBILE5b, as released, did not allow the user to estimate the emission reduction credits for the Tier 2/Low Sulfur rule. This situation existed since the Tier 2 rule was promulgated after the release of MOBILE5b. Therefore, in order to allow areas that wanted to claim emission reduction credit for the Tier 2/Low Sulfur rule to estimate the benefits, EPA provided a method to estimate those reductions. This MOBILE5b approximation methodology represented the information available for use in on-road mobile source modeling at that time when MOBILE5b was the approved model. EPA recognized these approximations could change as more data are analyzed and incorporated into the next version of the MOBILE model, MOBILE6. EPA required areas that used the MOBILE5b approximation method to resubmit MVEBs recalculated with MOBILE6. Specifically, EPA established a policy that MVEBs would not be approved as being adequate for purposes of conformity unless the SIP also included an enforceable commitment to revise and resubmit the MVEBs using MOBILE6 methods within one year after the EPA released MOBILE6 or, alternatively, within two years following the release of MOBILE6, provided that transportation conformity is not determined in the area without adequate MOBILE6-based MVEBs during the second year. Based on this policy, EPA required Indiana to update the MVEBs in the 1-hour ozone attainment demonstration for Northwest Indiana within two years after the release of MOBILE6. In addition, any new conformity analysis in the area cannot be found to conform during the second year until MVEBs based on MOBILE6 calculations are found adequate (November 13, 2001, 66 FR 56944). For a more detailed explanation of EPA's rationale for this policy, please refer to the January 18, 2002, “Policy Guidance on the Use of MOBILE6 for SIP Development and Transportation Conformity” (http://www.epa.gov/otaq/models/mobile6/m6policy.pdf).

III. What Action Is EPA Taking Today?

EPA is approving revisions to the Indiana SIP submitted by the Indiana Department of Environmental Management (IDEM). The SIP revision request was originally submitted on July 2, 2004, with a request to parallel process the draft revision. The state public comment period ended on July 30, 2004, and IDEM submitted the final SIP revision request on August 6, 2004. The State's revisions update the MVEBs for the years 2005 and 2007 and also update the projected mobile source emissions (upon which the MVEBs are based) using MOBILE6 for Lake and Porter Counties in Indiana, which are part of the Chicago 1-hour severe ozone nonattainment area. These revisions meet the requirements established in the final approval of the attainment demonstration (November 13, 2001, 66 FR 56944). These revisions also meet the criteria in the January 18, 2002, Guidance document, “Policy Guidance on the Use of MOBILE6 for SIP Development and Transportation Conformity.”

IV. What Changes Were Made to the Northwest Indiana 1-Hour Ozone MVEBs?

Indiana revised MVEBs and mobile source emissions using MOBILE6.2, the current version of MOBILE6, and using the latest population and transportation model updates. The revised 2005 MVEB for the Lake and Porter County area is 15.18 tons per summer day (tpd) for Volatile Organic Compounds (VOC). The revised 2007 MVEBs for the Lake and Porter County area are 12.37 tpd VOC and 63.33 tpd for Nitrogen Oxides (NOX) (Please refer to the table below for details.)

Table 1 below summarizes the revised motor vehicle emissions inventories for VOC for the Lake and Porter County area in pounds (lbs) per summer day. These revised inventories were developed using the latest planning assumptions, including vehicle registration data, vehicle miles traveled (VMT), speeds, fleet mix, and SIP emission control measures. These inventories meet the Rate of Progress (ROP) targets for the Lake and Porter County area. Indiana was required to reduce VOC emissions by nine percent between 2002 to 2005. In the original ROP Plan, Indiana had additional emission reductions above and beyond what was required. The approved ROP Plan had an extra reduction of 7,852 lbs. per summer day. The extra creditable reductions were primarily from the shutdown of certain steel operations. The Indiana ROP Plan was approved as part of the attainment demonstration approval on November 13, 2001, (66 FR 56944).

Northwest Indiana Anthropogenic Emissions
State | Source category | VOC 1990 | VOC 2005 | VOC 2007
Indiana | Point Area Mobile Nonroad | 350,771 83,821 71,560 23,367 | 98,560 65,669 30,351 16,611 | 99,579 66,595 24,738 13,326
Total |  | 529,519 | 211,191 | 204,238

The Indiana submittal also addresses the 6% ROP emission reduction needed for the years 2005 to 2007. Again, Indiana had additional VOC emissions in the originally approved ROP Plan. These additional emissions are above and beyond the 3% contingency requirements which were also met and approved. Indiana has used the additional, excess emissions reductions by allocating them to the mobile source sector for the emissions budgets. By using the excess emission reductions, Indiana no longer has additional excess ROP emissions in the approved ROP Plan.

IDEM and EPA also reviewed planning assumptions for the point, area, and nonroad source categories to ensure there have been no major changes since approval of the attainment demonstration. The emissions for point, area, and nonroad source categories are shown in Table 1, in addition to the mobile source emissions.

EPA has articulated its policy regarding the use of MOBILE6 in SIP development in its “Policy Guidance on the Use of MOBILE6 for SIP Development and Transportation Conformity” ³ and “Clarification of Policy Guidance for MOBILE6 in Mid-course Review Areas.” ⁴

³ Memorandum, “Policy Guidance on the Use of MOBILE6 for SIP development and Transportation Conformity,” issued January 18, 2002. A copy of this memorandum can be found on EPA's Web site at http://www.epa.gov/otaq/transp/traqconf.htm.

⁴ Memorandum, “Clarification of Policy Guidance for MOBILE6 SIPs in Mid-course Review Areas,” issued February 12, 2003. A copy of this memorandum can be found on EPA's Web site at http://www.epa.gov/otaq/transp/traqconf.htm.

Consistent with this policy guidance, Indiana's August 6, 2004, submittal includes urban airshed modeling results to show that its 1-Hour Ozone Attainment Demonstration Plan continues to demonstrate attainment using revised MOBILE6 inventories for the Northwest Indiana area and the entire Lake Michigan area. The State's methodology for the urban airshed modeling consisted of modeling the critical episode from 1995 with the increased emissions in Northwest Indiana to determine if attainment will still be predicted by the established 2007 attainment date. The emissions were increased by a 5% margin to assure that, even with extra emissions, the area would demonstrate attainment. The modeling showed that the regional strategy met the three benchmarks in EPA's 1-hour attainment test (“Guidance on Use of Modeled Results to Demonstrate Attainment of the Ozone NAAQS”, June 1996). The benchmarks set limits on the number of modeled exceedance days. All three of the benchmarks were met by the modeling that considered increased emissions.

Indiana's August 6, 2004 submittal satisfies the conditions outlined in EPA's MOBILE6 Policy guidance, and demonstrates that the new levels of motor vehicle emissions calculated using MOBILE6 continue to support achievement of the projected attainment of the 1-Hour Ozone NAAQS by the attainment date of November 15, 2007, for the Northwest Indiana area.

V. What Is Transportation Conformity?

Transportation conformity means that the level of emissions from the transportation sector (i.e., cars, trucks and buses) must be consistent with the requirements in the SIP to attain and maintain the National Ambient Air Quality Standard (NAAQS). The Clean Air Act, in section 176(c), requires conformity of transportation plans, programs and projects to a SIP's purpose of attaining and maintaining the NAAQS. On November 24, 1993, EPA published a final rule establishing criteria and procedures for determining if transportation plans, programs and projects funded or approved under Title 23 United States Code or the Federal Transit Act conform to the SIP. EPA revised the Transportation Conformity Rule on August 7, 1995 (60 FR 40098), November 14, 1995 (60 FR 57179), and August 15, 1997 (62 FR 43780), and codified the revisions under 40 CFR part 51, subpart T and 40 CFR part 93, subpart A—Conformity to State or Federal Implementation Plans of Transportation Plans, Programs, and Projects Developed, Funded or Approved Under Title 23 United States Code or the Federal Transit Laws (62 FR 43780). The transportation conformity rules require the comparison of an ozone nonattainment area to the actual projected emissions from cars, trucks and buses on the highway network, to the MVEB established by the SIP. The Northwest Indiana area has an approved attainment demonstration. EPA's approval of the attainment demonstration on November 13, 2001, (66 FR 56944) established interim MVEBs for transportation conformity purposes. These SIP revisions revise the MVEBs and reestablish the MVEBs for transportation conformity purposes.

VI. What Is a MVEB?

A MVEB is the projected level of controlled emissions from the transportation sector (mobile sources) that is estimated in the SIP. The SIP controls emissions through regulations, for example, on fuels and exhaust levels for cars. The MVEB concept is further explained in the preamble to the November 24, 1993, transportation conformity rule (58 FR 62188). The preamble also describes how to establish the MVEB in the SIP and revise the MVEB. The transportation conformity rule allows the MVEB to be changed as long as the total level of emissions from all sources remains below the attainment level of emissions.

VII. How Does This Action Change Implementation of Transportation Conformity for the Northwest Indiana Area?

In today's action, EPA is approving revisions to the 2005 and 2007 MVEBs for the Indiana portion of the Chicago 1-hour ozone nonattainment area. The revised 2005 MVEB for the Northwest Indiana area is 15.18 tpd for VOC. The revised 2007 MVEBs for the Lake and Porter County area are 12.37 tpd for VOC and 63.33 tpd for NOX.

As a result of these findings, the Northwest Indiana area must use the revised 2005 and 2007 MVEBs for future conformity determinations effective on the date of this action. EPA's approval of the MVEBs removes the administrative freeze on transportation conformity on the area and allows the area to demonstrate conformity.

VIII. What Is the Action?

EPA is approving Indiana's SIP revisions because they meet all of the requirements of section 110 of the Clean Air Act, as interpreted by EPA policy and guidance. Additionally, these SIP revisions meet the applicable requirements of the Transportation Conformity Rule.

IX. Did Indiana Hold a Public Hearing?

Indiana held a public hearing on July 28, 2004 in Merrillville, Indiana. The public comment period extended until July 30, 2004. No comments were received during the comment period including at the public hearing.

X. Statutory and Executive Order Reviews

Under Executive Order 12866 (58 FR 51735, October 4, 1993), this action is not a “significant regulatory action” and therefore is not subject to review by the Office of Management and Budget.

Executive Order 13211: Actions Concerning Regulations That Significantly Affect Energy Supply, Distribution, or Use

For this reason, this action is also not subject to Executive Order 13211, “Actions Concerning Regulations That Significantly Affect Energy Supply, Distribution, or Use” (66 FR 28355, May 22, 2001).

Regulatory Flexibility Act

This action merely approves state law as meeting Federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

Executive Order 13175: Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (65 FR 67249, November 9, 2000).

Executive Order 13132: Federalism

This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act.

Executive Order 13045: Protection of Children From Environmental Health and Safety Risks

This rule also is not subject to Executive Order 13045 “Protection of Children from Environmental Health Risks and Safety Risks” (62 FR 19885, April 23, 1997), because it is not economically significant.

National Technology Transfer Advancement Act

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by October 25, 2004. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Intergovernmental relations, Nitrogen dioxide, Volatile organic compounds, Ozone.

Dated: August 12, 2004.
Steve Rothblatt,
Acting Regional Administrator, Region 5.

Part 52, chapter I, title 40 of the Code of Federal Regulations is amended as follows:

PART 52—[AMENDED]

1. The authority citation for part 52 continues to read as follows:

Authority: 42 U.S.C. 7401 et seq.

Subpart P—Indiana

2. Section 52.777 is amended by adding paragraph (aa) to read as follows:

§ 52.777 Control strategy: photochemical oxidants (hydrocarbons).

* * * * *

(aa) Approval—On August 6, 2004, Indiana submitted a revision to the 1-hour ozone attainment plan for Lake and Porter Counties. The revision consists of new motor vehicle emission estimates and new MOBILE6 based motor vehicle emissions budgets. The motor vehicle emissions budget for volatile organic compounds (VOCs) for Lake and Porter Counties, Indiana for the 2005 interim Rate of Progress year is now 15.18 tons per summer day (tpd). The 2007 motor vehicle emissions budgets for the Lake and Porter Counties, Indiana are now 12.37 tpd VOC and 63.33 tpd oxides of nitrogen.

[FR Doc. 04-19434 Filed 8-25-04; 8:45 am]

BILLING CODE 6560-50-P 000